SMALL BUSINESS ADMINISTRATION

[Disaster Declaration #15742 and #15743; FLORIDA Disaster Number FL-00140]

Presidential Declaration Amendment of a Major Disaster for the State of Florida

AGENCY: U.S. Small Business Administration.

ACTION: Amendment 2.

SUMMARY: This is an amendment of the Presidential declaration of a major disaster for the State of Florida (FEMA-4399-DR), dated 10/11/2018.

Incident: Hurricane Michael.

Incident Period: 10/07/2018 and continuing.

DATES: Issued on 10/13/2018.

Physical Loan Application Deadline Date: 12/10/2018.

Economic Injury (EIDL) Loan Application Deadline Date: 07/11/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of FLORIDA, dated 10/11/2018, is hereby amended to include the following areas as adversely affected by the disaster:

Primary Counties (Physical Damage and Economic Injury Loans): Holmes, Washington.

Contiguous Counties (Economic Injury Loans Only): All counties contiguous to the above named primary counties have previously been declared.

All other information in the original declaration remains unchanged.

(Catalog of Federal Domestic Assistance Number 59008)

James Rivera,
Associate Administrator for Disaster Assistance.

[FR Doc. 2018-22856 Filed 10-18-18; 8:45 am]

BILLING CODE 8025-01-P